ENVIRONMENTAL PROTECTION AGENCY

40 CFR Part 63

[EPA-HQ-OAR-2009-0234; FRL-9980-41-OAR]

RIN 2060-AT42

Remaining Requirements for Mercury and Air Toxics Standards (MATS) Electronic Reporting Requirements

AGENCY: Environmental Protection Agency (EPA).

ACTION: Final rule.

SUMMARY: The Environmental Protection Agency (EPA) is taking final action to extend the period during which certain electronic reports required by the Mercury and Air Toxics Standards (MATS) may be submitted as portable document format (PDF) files using the Emissions Collection and Monitoring Plan System (ECMPS) Client Tool. This action will extend the end date of that period from June 30, 2018, to July 1, 2020. This extension is necessary because the electronic reporting system that owners or operators of affected MATS sources will be required to use when PDF filing is no longer allowed will not be available by June 30, 2018. This extension does not alter the responsibility of owners or operators of affected MATS sources to comply with the applicable MATS and report their compliance information to the appropriate authority. In addition, this extension ensures that the compliance information can be submitted in a timely manner and made available to the public. Finally, this rule is effective on July 1, 2018, to provide the regulated community a continuous and viable vehicle to submit compliance reports.

DATES: This final rule is effective on July 1, 2018.

ADDRESSES: Docket: The EPA has established a docket for this action under Docket ID No. EPA-HQ-OAR-2009-0234. All documents in the docket are listed on the https://www.regulations.gov website. Although listed in the index, some information is not publicly available, e.g., confidential business information (CBI) or other information whose disclosure is restricted by statute. Certain other material, such as copyrighted material, is not placed on the internet and will be publicly available only in hard copy. Publicly available docket materials are available electronically through https://www.regulations.gov.

FOR FURTHER INFORMATION CONTACT: Mr. Barrett Parker, Sector Policies and Programs Division, Office of Air Quality Planning and Standards (D243-05), Environmental Protection Agency, Research Triangle Park, NC 27711; telephone number: (919) 541-5635; email address: parker.barrett@epa.gov.

SUPPLEMENTARY INFORMATION: The information in this preamble is organized as follows:

I. General Information

A. Does this action apply to me?

B. What action is the Agency taking?

C. What is the Agency's authority for taking this action?

D. What are the incremental costs and benefits of this action?

II. Supplemental Information

A. Background

B. Why is the Agency taking final action without providing an opportunity for public comment?

C. Why is the Agency making this action effective on July 1, 2018?

III. What is the scope of this amendment?

IV. What specific amendments to 40 CFR part 63, subpart UUUUU are made by this rule?

V. Statutory and Executive Order Reviews

A. Executive Order 12866: Regulatory Planning and Review and Executive Order 13563: Improving Regulation and Regulatory Review

B. Executive Order 13771: Reducing Regulations and Controlling Regulatory Costs

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health Risks and Safety Risks

I. Executive Order 13211: Actions Concerning Regulations That Significantly Affect Energy Supply, Distribution, or Use

J. National Technology Transfer and Advancement Act (NTTAA)

K. Executive Order 12898: Federal Actions To Address Environmental Justice in Minority Populations and Low-Income Populations

L. Congressional Review Act (CRA)

I. General Information

A. Does this action apply to me?

Categories and entities potentially affected by this action include:

Category | NAICS code ¹ | Examples of potentially regulated entities
Industry | 221112 | Fossil fuel-fired EGUs.
Federal government | ² 221122 | Fossil fuel-fired EGUs owned by the Federal government.
State/local/Tribal government | ² 221122 | Fossil fuel-fired EGUs owned by municipalities.
| 921150 | Fossil fuel-fired EGUs in Indian country.
¹ North American Industry Classification System.
² Federal, state, or local government-owned and operated establishments are classified according to the activity in which they are engaged.

This table is not intended to be exhaustive, but rather provides a guide for readers regarding entities likely to be regulated by this action. This table lists the types of entities that the EPA is now aware could potentially be regulated by this action. Other types of entities not listed in the table could also be regulated. To determine whether your entity is regulated by this action, you should carefully examine the applicability criteria in 40 CFR 63.9981 of the rule. If you have questions regarding the applicability of this action to a particular entity, consult either the air permitting authority for the entity or your EPA Regional representative as listed in 40 CFR 63.13.

B. What action is the Agency taking?

This final action extends the period allowing owners or operators of affected sources subject to the National Emission Standards for Hazardous Air Pollutants: Coal- and Oil-Fired Electric Utility Steam Generating Units (commonly known as the Mercury and Air Toxics Standards (MATS)) to submit certain reports as PDF file attachments using the ECMPS Client Tool until July 1, 2020. Prior to this extension, that period was scheduled to end on June 30, 2018. As explained further below, the EPA finds that there is “good cause” under the Administrative Procedure Act (APA) (5 U.S.C. 553(b)(B)) to make the amendments extending the deadline final without prior notice and comment, in part because the rule maintains the status quo, and the reporting system that would apply without the extension (i.e., the Compliance and Emissions Data Reporting Interface (CEDRI)) is currently unable to accept the MATS reports, thus, making it impossible for the regulated community to comply with all reporting requirements without this extension. Thus, as explained further below, the EPA maintains that notice and comment is unnecessary and contrary to the public interest for this action. The EPA also finds good cause under APA 553(d)(3) to make this rule effective on July 1, 2018, instead of 30 days after publication as generally required, to ensure that there are no gaps in the regulated community's ability to submit all the required reports.

C. What is the Agency's authority for taking this action?

The Agency's authority is found at 42 U.S.C. 7401 et seq. and 5 U.S.C. 553 et seq.

D. What are the incremental costs and benefits of this action?

This extension of the time period allowing temporary submission of PDF file attachments has neither costs nor benefits.

II. Supplemental Information

A. Background

On February 12, 2012, the EPA issued the final MATS (77 FR 9304; February 16, 2012). In that rule, owners or operators of coal- or oil-fired electric utility steam generating units (EGUs) were required to report emissions and compliance information electronically using two data systems: The ECMPS Client Tool and CEDRI. The two electronic reporting systems were intended to accept different MATS compliance related information (e.g., the ECMPS Client Tool was to be used by EGU owners or operators to report, among other things, mercury (Hg) continuous monitoring data and the CEDRI system was to be used to submit, among other things, semiannual compliance reports). See 40 CFR 63.10031(a), (f).

After promulgation, but prior to the existing-source compliance date of April 16, 2015, the regulated community suggested to the EPA that the electronic reporting burden of MATS could be significantly reduced if all the required information were reported to one data system instead of two. Specifically, the regulated community suggested that the EPA amend MATS to require all the data to be reported through the ECMPS Client Tool, which is a familiar data system that most EGU owners or operators have been using since 2009 to meet the electronic reporting requirements of the Acid Rain Program.

In response, the EPA decided to require all electronic reports required by MATS to be submitted through the ECMPS Client Tool, but the Agency recognized that it could not make the necessary changes to the ECMPS Client Tool by the April 16, 2015, compliance date. For that reason, the EPA issued a final rule on March 24, 2015, prior to the MATS compliance date, revising the MATS reporting requirements (80 FR 15511; March 24, 2015). Among other things, the final rule suspended the requirement to submit to CEDRI the MATS compliance reports described in 40 CFR 63.10031(f)(1), (f)(2), and (f)(4), and instead allowed parties to submit those reports to the ECMPS Client Tool as PDF files. See 40 CFR 63.10031(f)(6). The EPA included a self-imposed deadline of April 17, 2017, to revise the ECMPS Client Tool to accept all of the MATS compliance information. If the revised system was not ready by that date, the rule required reporting of the MATS compliance data to revert to the original two-system approach on and after that date. See 40 CFR 63.10031(f).

On September 29, 2016, the EPA proposed for comment to revise MATS to require a single electronic reporting system, (i.e., the ECMPS Client Tool), and also proposed to extend the PDF file reporting period from April 17, 2017, to December 31, 2017, by which date the Agency believed it would complete the necessary changes to the ECMPS Client Tool (81 FR 67062; September 29, 2016). The comment period was scheduled to close on October 31, 2016, but it was subsequently extended until November 15, 2016, in response to requests from several stakeholders for an extension. The public comments were generally supportive of simplifying and streamlining the MATS reporting requirements and to use the ECMPS Client Tool as the single electronic reporting system. However, industry commenters questioned whether the EPA would complete the changes to the ECMPS Client Tool by December 31, 2017, and suggested dates ranging from six quarters after completion of the final rule was issued to 2020. No commenters stated that the EPA should not extend the PDF file reporting period. On April 6, 2017, the EPA finalized an extension of the PDF file reporting period from April 17, 2017, to June 30, 2018, because the Agency recognized it would not complete the necessary revisions to the ECMPS Client Tool and conduct the necessary testing by the December 31, 2017, proposed extension date (82 FR 16736; April 6, 2017).¹

¹ In addition to extending the interim PDF file submission process to June 30, 2018, the final rule also made a few technical corrections to Appendix A.

The EPA continues to work on the ECMPS Client Tool, but the Agency recently concluded that the changes and necessary testing will not be completed by June 30, 2018. In addition, the CEDRI interface is not currently capable of accepting the compliance reports that are currently being submitted via PDF files to the ECMPS Client Tool. This means that EGU owners or operators would be unable to submit the required reports if PDF file reporting authority is not extended. Moreover, the CEDRI interface cannot be operational before July 1, 2018 (i.e., the first date CEDRI reporting would be required absent an extension), and the EPA is continuing to change the ECMPS Client Tool to accept all of the MATS compliance reports. For these reasons, the EPA has concluded that it is reasonable to continue to allow the PDF file reporting option. This extension changes neither the responsibility of all owners or operators of affected sources to comply with the applicable MATS emissions standards and other requirements nor the compliance information available to the public as PDF files. For all these reasons, the EPA is revising the reporting requirements in the MATS regulations, 40 CFR 63.10021 and 63.10031, by extending the period for affected sources to submit certain compliance related information via PDF file reports from June 30, 2018, to July 1, 2020.

B. Why is the Agency taking final action without providing an opportunity for public comment?

As noted above, this action amends the reporting requirements by extending the period for affected sources to submit certain compliance related information via PDF file reports. This extension is critical because: (1) The EPA is still working to revise the ECMPS Client Tool so that it can accept all of the MATS compliance reports, and (2) the CEDRI system that would apply without this extension is not able to accept the compliance reports that are currently being submitted via PDF files. Without this action, affected source owners or operators would be unable to report certain MATS compliance information as required in the regulations and, as a result, the public would not have access to that information.

Section 553(b)(B) of the APA, 5 U.S.C. 553(b)(B), provides that, when an agency for good cause finds that notice and public comment are impracticable, unnecessary, or contrary to the public interest, the agency may issue a rule without providing notice and an opportunity for public comment. See also the final sentence of section 307(d)(1) of the Clean Air Act (CAA), 42 U.S.C. 7607(d)(1), indicating that CAA section 307(d) does not apply in the case of any rule or circumstance referred to in section 553(b)(B) of the APA. As explained further below, the EPA finds that providing notice and comment is unnecessary in this situation because the extension of PDF file reporting maintains the status quo and does not relieve the regulated community of its responsibility to comply with the MATS. In addition, when in April 2017 the EPA proposed and finalized an extension of the PDF file reporting requirement, the Agency received no comments against or legal challenge to that extension rulemaking. Finally, the EPA also finds that notice and comment rulemaking in these circumstances would be contrary to the public interest because the electronic system that would apply without the extension (i.e., CEDRI) is currently unable to accept the MATS compliance reports that are currently being submitted via PDF files. Therefore, it would not be possible for affected source owners or operators to comply with all of the MATS reporting requirements without the extension and the public would be deprived of certain compliance related information as a result. The delay that would be inherent in notice and comment rulemaking would result in a potential loss of public availability of compliance information that is contrary to the public interest.

The EPA has determined that notice and comment procedures are unnecessary here for a number of reasons. First, this action will simply maintain the status quo and does not introduce any new substantive requirements.

Second, the EPA has no viable alternative to extending of PDF file reporting given that the CEDRI system is not currently able to accept the necessary reports. The EPA has concluded that the July 2020 extension date will provide the necessary time to complete the changes to and test the ECMPS Client Tool.

Third, the Agency previously provided an opportunity for comment on whether a PDF file reporting extension is justified where the electronic reporting system is not available. The Agency provided this opportunity for comment in the September 29, 2016, proposed rule (finalized April 6, 2017) to extend the PDF file reporting until June 30, 2018 (81 FR 67062; September 29, 2016 and 82 FR 16736; April 7, 2017). The EPA did not receive any comments suggesting that the extension of the PDF file reporting was unreasonable, although commenters did suggest the Agency provide more time than proposed. As a result, the Agency finalized an extension to June 30, 2018, 7 months longer than proposed, but considerably less time than suggested in comments. See 82 FR 16736. In this final rule, the EPA is recognizing that, as commenters in 2016 suggested, more time is needed to complete the move to the ECMPS Client Tool and that a longer extension of the PDF file reporting than the one previously afforded is appropriate.

In addition to finding that notice and comment rulemaking is unnecessary, the EPA also finds that providing notice and comment in this situation would be contrary to the public interest. If the EPA were to delay this action to provide an opportunity for public comment, there would be a gap period during which the public would not have access to all of the MATS compliance information required by the rule. As explained above, the CEDRI system is not currently capable of accepting the MATS compliance reports that parties would be required to submit to it. Thus, if the PDF file reporting extension were not provided, some MATS compliance information would not be accessible to the public for some time. In addition, EGU owners or operators, along with the public and regulatory agencies, are already familiar with the interim PDF file submission process and the EPA continues to work on the ECMPS Client Tool so that it can accept all of the MATS compliance reports. The current process of EGU owners or operators attaching PDF files when submitting reports via the ECMPS Client Tool is well understood by all parties interested in the data and ensures that all compliance data are reported. Conversely, EGU owners or operators are not familiar with CEDRI reporting for MATS, so requiring compliance with CEDRI for some interim period before the full implementation of the ECMPS Client Tool would potentially cause confusion for the regulated community and the public. The EPA maintains that, in light of these facts, it is contrary to the public interest to have an interim period during which both the EPA and EGU owners or operators would have to expend the resources and time necessary to enable partial CEDRI reporting before fully converting to the ECMPS Client Tool. For these reasons, the EPA finds that providing notice and comment in these particular circumstances would be contrary to the public interest.

For all these reasons, the EPA finds good cause exists under section 553(b)(B) of the APA to issue this final rule without prior notice and opportunity for comment.

C. Why is the Agency making this action effective on July 1, 2018?

The EPA also finds good cause to make this final rule effective on July 1, 2018. Section 553(d) of the APA, 5 U.S.C. 553(d), provides that final rules shall not become effective until 30 days after publication in the Federal Register, “except . . . as otherwise provided by the agency for good cause,” among other exceptions. The purpose of this provision is to “give affected parties a reasonable time to adjust their behavior before the final rule takes effect.” Omnipoint Corp. v. FCC, 78 F.3d 620, 630 (DC Cir. 1996); see also United States v. Gavrilovic, 551 F.2d 1099, 1104 (8th Cir. 1977) (quoting legislative history). Thus, in determining whether good cause exists to waive the 30-day delay, an agency should “balance the necessity for immediate implementation against principles of fundamental fairness which require that all affected persons be afforded a reasonable amount of time to prepare for the effective date of its ruling.” Gavrilovic, 551 F.2d at 1105. The EPA has determined that it is necessary to make this final rule effective on July 1, 2018, instead of 30 days after publication in the Federal Register, to ensure that there are no gaps in the ability of affected MATS sources to submit the required compliance reports, given that the current authority to submit PDF file reports expires on June 30, 2018. The EPA also has determined that the owners or operators of affected MATS sources do not need time to adjust to this final action because this final rule simply maintains the status quo and does not introduce any new substantive requirements.

For these reasons, the EPA finds good cause exists under section 553(d)(3) of the APA to make this rule effective on July 1, 2018, instead of 30 days after publication in the Federal Register.

III. What is the scope of this amendment?

This action amends the reporting requirement in the MATS regulation, 40 CFR 63.10021 and 10031.

IV. What specific amendments to 40 CFR part 63, subpart UUUUU are made by this rule?

The interim PDF reporting process described in 40 CFR 63.10031(f) has been further extended through June 30, 2020, to allow sufficient time for software development, programming, and testing. Until then, compliance with the emissions and operating limits continues to be assessed based on the various PDF file report submittals described in 40 CFR 63.10021(e)(9) and 63.10031(f). Data are also obtained from Hg, hydrogen chloride, hydrogen fluoride, and sulfur dioxide continuous emission monitoring systems, as well as Hg sorbent trap monitoring systems, as reported through the ECMPS Client Tool.

V. Statutory and Executive Order Reviews

Additional information about these statutes and Executive Orders can be found at https://www.epa.gov/laws-regulations/laws-and-executive-orders.

A. Executive Order 12866: Regulatory Planning and Review and Executive Order 13563: Improving Regulation and Regulatory Review

This action is not a significant regulatory action and was, therefore, not submitted to the Office of Management and Budget (OMB) for review.

B. Executive Order 13771: Reducing Regulations and Controlling Regulatory Costs

This action is not an Executive Order 13771 regulatory action because this action is not significant under Executive Order 12866.

C. Paperwork Reduction Act (PRA)

This action does not impose any new information collection burden under the PRA. OMB has previously approved the information collection activities contained in the existing regulation and has assigned OMB Control Number 2060-0567. This action does not change the information collection requirements, and this action does not impose any new information collection burden under the PRA.

D. Regulatory Flexibility Act (RFA)

This action is not subject to the RFA. The RFA applies only to rules subject to notice and comment rulemaking requirements under the APA, 5 U.S.C. 553, or any other statute. This rule is not subject to notice and comment requirements because the Agency has invoked the APA “good cause” exemption under 5 U.S.C. 553(b).

E. Unfunded Mandates Reform Act (UMRA)

This action does not contain an unfunded mandate of $100 million or more as described in UMRA, 2 U.S.C. 1531-1538, and does not significantly or uniquely affect small governments. As described earlier, this action has no net regulatory burden on governments already subject to MATS. Accordingly, we have determined that this action will not result in any “significant” adverse economic impact for small governments.

F. Executive Order 13132: Federalism

This action does not have federalism implications. It will not have substantial direct effects on the states, on the relationship between the national government and the states, or on the distribution of power and responsibilities among the various levels of government.

G. Executive Order 13175: Consultation and Coordination With Indian Tribal Governments

This action does not have tribal implications as specified in Executive Order 13175. As described earlier, this action has no substantial direct effect on Indian tribes already subject to MATS. Thus, Executive Order 13175 does not apply to this action.

H. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not concern an environmental health risk or safety risk.

I. Executive Order 13211: Actions Concerning Regulations That Significantly Affect Energy Supply, Distribution, or Use

This action is not subject to Executive Order 13211, because it is not a significant regulatory action under Executive Order 12866.

J. National Technology Transfer and Advancement Act (NTTAA)

This rulemaking does not involve technical standards.

K. Executive Order 12898: Federal Actions To Address Environmental Justice in Minority Populations and Low-Income Populations

The EPA believes that this action is not subject to Executive Order 12898 (59 FR 7629, February 16, 1994) because it does not establish an environmental health or safety standard. This regulatory action extends the deadline for interim reporting of electronic data; it does not have any impact on human health or the environment.

L. Congressional Review Act (CRA)

This action is subject to the CRA, and the EPA will submit a rule report to each House of the Congress and to the Comptroller General of the United States. The CRA allows the issuing agency to make a rule effective sooner than otherwise provided by the CRA if the agency makes a good cause finding that notice and comment rulemaking procedures are impracticable, unnecessary, or contrary to the public interest (5 U.S.C. 808(2)). The EPA has made a good cause finding for this rule as discussed in sections II.B and C of this preamble, including the basis for that finding.

List of Subjects in 40 CFR Part 63

Environmental protection, Administrative practice and procedure, Air pollution control, Hazardous substances, Intergovernmental relations, Reporting and recordkeeping requirements.

Dated: June 26, 2018.
E. Scott Pruitt,
Administrator.

For the reasons set forth in the preamble, the EPA amends 40 CFR part 63 as follows:

PART 63—NATIONAL EMISSION STANDARDS FOR HAZARDOUS AIR POLLUTANTS FOR SOURCE CATEGORIES

1. The authority citation for part 63 continues to read as follows:

Authority: 42 U.S.C. 7401 et seq.

Subpart UUUUU—National Emission Standards for Hazardous Air Pollutants: Coal- and Oil-Fired Electric Utility Steam Generating Units

2. Section 63.10021 is amended by revising paragraph (e)(9) to read as follows:

§ 63.10021 How do I demonstrate continuous compliance with the emission limitations, operating limits, and work practice standards?

* * * * *

(e) * * *

(9) Report the dates of the initial and subsequent tune-ups in hard copy, as specified in 63.10031(f)(5), through June 30, 2020. On or after July 1, 2020, report the date of all tune-ups electronically, in accordance with § 63.10031(f). The tune-up report date is the date when tune-up requirements in paragraphs (e)(6) and (7) of this section are completed.

* * * * *

3. Section 63.10031 is amended by revising paragraphs (f) introductory text, (f)(1), (2), (4), and (f)(6) introductory text to read as follows:

§ 63.10031 What reports must I submit and when?

* * * * *

(f) On or after July 1, 2020, within 60 days after the date of completing each performance test, you must submit the performance test reports required by this subpart to the EPA's WebFIRE database by using the Compliance and Emissions Data Reporting Interface (CEDRI) that is accessed through the EPA's Central Data Exchange (CDX) (https://cdx.epa.gov). Performance test data must be submitted in the file format generated through use of EPA's Electronic Reporting Tool (ERT) (see https://www.epa.gov/ttn/chief/ert/index.html). Only data collected using those test methods on the ERT website are subject to this requirement for submitting reports electronically to WebFIRE. Owners or operators who claim that some of the information being submitted for performance tests is confidential business information (CBI) must submit a complete ERT file including information claimed to be CBI on a compact disk or other commonly used electronic storage media (including, but not limited to, flash drives) to EPA. The electronic media must be clearly marked as CBI and mailed to U.S. EPA/OAPQS/CORE CBI Office, Attention: WebFIRE Administrator, MD C404-02, 4930 Old Page Rd., Durham, NC 27703. The same ERT file with the CBI omitted must be submitted to EPA via CDX as described earlier in this paragraph. At the discretion of the delegated authority, you must also submit these reports, including the confidential business information, to the delegated authority in the format specified by the delegated authority.

(1) On or after July 1, 2020, within 60 days after the date of completing each CEMS (SO2, PM, HCl, HF, and Hg) performance evaluation test, as defined in § 63.2 and required by this subpart, you must submit the relative accuracy test audit (RATA) data (or, for PM CEMS, RCA and RRA data) required by this subpart to EPA's WebFIRE database by using CEDRI that is accessed through EPA's CDX (https://cdx.epa.gov). The RATA data shall be submitted in the file format generated through use of EPA's Electronic Reporting Tool (ERT) (https://www.epa.gov/ttn/chief/ert/index.html). Only RATA data compounds listed on the ERT website are subject to this requirement. Owners or operators who claim that some of the information being submitted for RATAs is confidential business information (CBI) shall submit a complete ERT file including information claimed to be CBI on a compact disk or other commonly used electronic storage media (including, but not limited to, flash drives) by registered letter to EPA and the same ERT file with the CBI omitted to EPA via CDX as described earlier in this paragraph. The compact disk or other commonly used electronic storage media shall be clearly marked as CBI and mailed to U.S. EPA/OAPQS/CORE CBI Office, Attention: WebFIRE Administrator, MD C404-02, 4930 Old Page Rd., Durham, NC 27703. At the discretion of the delegated authority, owners or operators shall also submit these RATAs to the delegated authority in the format specified by the delegated authority. Owners or operators shall submit calibration error testing, drift checks, and other information required in the performance evaluation as described in § 63.2 and as required in this chapter.

(2) On or after July 1, 2020, for a PM CEMS, PM CPMS, or approved alternative monitoring using a HAP metals CEMS, within 60 days after the reporting periods ending on March 31st, June 30th, September 30th, and December 31st, you must submit quarterly reports to the EPA's WebFIRE database by using the CEDRI that is accessed through the EPA's CDX (https://cdx.epa.gov). You must use the appropriate electronic reporting form in CEDRI or provide an alternate electronic file consistent with EPA's reporting form output format. For each reporting period, the quarterly reports must include all of the calculated 30-boiler operating day rolling average values derived from the CEMS and PM CPMS.

* * * * *

(4) On or after July 1, 2020, submit the compliance reports required under paragraphs (c) and (d) of this section and the notification of compliance status required under § 63.10030(e) to the EPA's WebFIRE database by using the CEDRI that is accessed through the EPA's CDX (https://cdx.epa.gov). You must use the appropriate electronic reporting form in CEDRI or provide an alternate electronic file consistent with EPA's reporting form output format.

* * * * *

(6) Prior to July 1, 2020, all reports subject to electronic submittal in paragraphs (f) introductory text, (f)(1), (2), and (4) of this section shall be submitted to the EPA at the frequency specified in those paragraphs in electronic portable document format (PDF) using the ECMPS Client Tool. Each PDF version of a submitted report must include sufficient information to assess compliance and to demonstrate that the testing was done properly. The following data elements must be entered into the ECMPS Client Tool at the time of submission of each PDF file:

* * * * *

[FR Doc. 2018-14308 Filed 6-29-18; 8:45 am]

BILLING CODE 6560-50-P